DEPARTMENT OF STATE

[Public Notice 6600]

Shipping Coordinating Committee Meeting

The Shipping Coordinating Committee (SHC) will conduct an open meeting at 9:30 a.m. on Friday, June 19, 2009 in Room 4420 of the United States Coast Guard Headquarters Building, 2100 Second Street, SW., Washington, DC 20593. The purpose of this meeting will be to finalize preparations for the 59th Session of the Technical Co-Operation Committee (TC 59) of the International Maritime Organization (IMO) and the 102nd Session of the IMO's Council (C 102).

The 59th Session of the Technical Co-Operation (TC) Committee is scheduled to be held 23-25 June 2009 at IMO's London headquarters. Agenda items for TC 59 include:

Integrated Technical Co-operation Programme: Interim report on 2008-2009;

Linkage between the Integrated Technical Co-operation Programme and the Millennium Development Goals;

Integrated Technical Co-operation Programme for 2010-2011;

Technical Co-operation Fund: Integrated Technical Co-operation Programme allocation for 2010-2011;

Financing the Integrated Technical Co-operation Programme;

Impact Assessment Exercise 2004-2007: Follow-up;

Partnerships for progress;

Voluntary IMO Member State Audit Scheme;

Programme on the integration of women in the maritime sector;

Institutional development and fellowships;

Report on the planned outputs of the Committee for 2008-2009;

Work of other bodies and organizations; and

Election of the Chairman and Vice-Chairman for 2010.

The 102nd Session of the Council is scheduled to be held 29 June-3 July, 2009 at IMO's London headquarters. Agenda items for C 102 include:

Strategy and planning (monitoring of performance and risk management);

Organizational reforms;

Resource management;

Voluntary IMO Member State Audit Scheme;

Technical Co-operation Fund (biennial allocation to support the ITCP Programme for 2010-2011);

Results-based budget for the twenty-sixth financial period 2010-2011;

Consideration of the reports of the Maritime Safety Committee;

Consideration of the report of the Facilitation Committee;

Consideration of the report of the Legal Committee;

Consideration of the report of the Technical Co-operation Committee;

Report on the 2009 International Conference on the Safe and Environmentally Sound Recycling of Ships;

Protection of vital shipping lanes;

World Maritime University (Report of the Governing Board and Budget);

IMO International Maritime Law Institute (Report of Governing Board and Budget);

Assembly matters;

External relations;

Report on the status of the Convention and membership of the Organization;

Report on the status of conventions and other multilateral instruments in respect of which the Organization performs functions; and

Date and place of the next session of the Council.

Members of the public may attend the June 19th meeting of the SHC up to the seating capacity of the room. Please note that due to security considerations, two valid, government-issued photo identification documents must be presented to gain entrance to the building. The Coast Guard Headquarters building is accessible by taxi and privately owned conveyance. Please note that parking in the vicinity of the building is extremely limited and that public transportation is not generally available.

To facilitate attendance to this meeting of the SHC, those who plan to attend should contact the meeting coordinator, LCDR Jason Smith—not later than 4 p.m. on Monday, June 15, 2009—by e-mail at jason.e.smith2@uscg.mil; by phone at (202) 372-1376; or by writing to Commandant (CG-5212), U.S. Coast Guard Headquarters, 2100 2nd Street, SW., Room 1308, Washington, DC 20593-0001. Additional information regarding this and other SHC public meetings and associated IMO meetings may be found at: http://www.uscg.mil/hq/cg5/imo.

Dated: May 6, 2009.
Mark Skolnicki,
Executive Secretary, Shipping Coordinating Committee, Department of State.

[FR Doc. E9-11176 Filed 5-12-09; 8:45 am]

BILLING CODE 4710-09-P